DEPARTMENT OF THE TREASURY

Submission for OMB Review; Comment Request

August 26, 2014.

The Department of the Treasury will submit the following information collection request to the Office of Management and Budget (OMB) for review and clearance in accordance with the Paperwork Reduction Act of 1995, Public Law 104-13, on or after the date of publication of this notice.

DATES: Comments should be received on or before September 29, 2014 to be assured of consideration.

ADDRESSES: Send comments regarding the burden estimate, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submissions may be obtained by emailing PRA@treasury.gov, calling (202) 622-1295, or viewing the entire information collection request at www.reginfo.gov.

Bureau of the Fiscal Service

OMB Number: 1510-0004.

Type of Review: Revision of a currently approved collection.

Title: Schedule of Excess Risks.

Form: FMS 285-A.

Abstract: This information is collected from insurance companies to assist the Treasury Department in determining whether a certified or applicant company is solvent and able to carry out its contracts, and whether the company is in compliance with Treasury excess risk regulations for writing Federal surety bonds.

Affected Public: Businesses or other for-profits.

Estimated Annual Burden Hours: 5,600.

OMB Number: 1510-0047.

Type of Review: Revision of a currently approved collection.

Title: Checklists of Filings for Certified Surety and/or Certified Reinsuring Companies and for Admitted Reinsurer Companies.

Abstract: This information is collected from insurance companies to assist the Treasury Department in determining acceptability of the companies applying for a Certificate of Authority to write or reinsure Federal surety bonds.

Affected Public: Businesses or other for-profits.

Estimated Annual Burden Hours: 540.

OMB Number: 1510-0061.

Type of Review: Revision of a currently approved collection.

Title: CMIA Annual Report and Interest Calculation Cost Claims.

Abstract: The Cash Management Improvement Act requires that states and territories report interest owed to and from the Federal government for major federal assistance programs on an annual basis. The data is used by Treasury and other Federal agencies to verify state and federal interest claims, to assess state and federal cash management practices and to exchange amounts of interest owed.

Affected Public: Federal government; State, local, or tribal governments.

Estimated Annual Burden Hours: 22,036.

Brenda Simms,
Treasury PRA Clearance Officer.

[FR Doc. 2014-20632 Filed 8-28-14; 8:45 am]

BILLING CODE 4810-35-P